DEPARTMENT OF THE INTERIOR

Fish and Wildlife Service

[FWS-R8-ES-2018-N096; FXES11140800000-189-FF08EVEN00]

Habitat Conservation Plan for the Morro Shoulderband Snail; Categorical Exclusion for the Seascape Place Single-Family Residence; Community of Los Osos, San Luis Obispo County, California

AGENCY: Fish and Wildlife Service, Interior.

ACTION: Notice of availability; request for comments.

SUMMARY: We, the U.S. Fish and Wildlife Service (Service), have received an application from Drs. Matthew Lotysch and Claire Amurao for an incidental take permit under the Endangered Species Act of 1973, as amended. The permit would authorize take of the federally endangered Morro shoulderband snail incidental to otherwise lawful activities associated with the construction of a single-family residence addressed in the draft habitat conservation plan prepared for the project. We invite public comment.

DATES: Written comments should be received on or before December 20, 2018.

ADDRESSES: To obtain documents: You may download a copy of the draft habitat conservation plan and draft low-effect screening form and environmental action statement at http://www.fws.gov/ventura/, or you may request copies of the documents by sending U.S. mail to our Ventura office, or by phone (see FOR FURTHER INFORMATION CONTACT).

To submit written comments: Please send us your written comments using one of the following methods:

• U.S. mail: Send your comments to Stephen P. Henry, Field Supervisor, Ventura Fish and Wildlife Office, U.S. Fish and Wildlife Service, 2493 Portola Road, Suite B, Ventura, CA 93003.

• Facsimile: Fax your comments to 805-644-3958.

FOR FURTHER INFORMATION CONTACT: Julie M. Vanderwier, Fish and Wildlife Biologist, 805-677-3400 (phone), or at the Ventura address in ADDRESSES.

SUPPLEMENTARY INFORMATION: We have received an application for an incidental take permit (ITP) pursuant to section 10(a)(1)(B) of the Endangered Species Act, as amended (ESA; 16 U.S.C. 1531 et seq.). The applicants have developed a draft habitat conservation plan for the project that includes measures to mitigate and avoid/minimize impacts to the federally endangered Morro shoulderband snail (Helminthoglypta walkeriana). The permit would authorize take of the Morro shoulderband snail incidental to otherwise lawful activities associated with the Seascape Place Single-Family Residence Habitat Conservation Plan (HCP). We invite public comment on the application, the draft HCP, draft low-effect screening form, and environmental action statement.

Background

The Morro shoulderband snail was listed as endangered on December 15, 1994 (59 FR 64613). Section 9 of the ESA and its implementing regulations prohibit the take of fish or wildlife species listed as endangered or threatened. “Take” is defined under the ESA to include the following activities: “[T]o harass, harm, pursue, hunt, shoot, wound, kill, trap, capture, or collect, or to attempt to engage in any such conduct” (16 U.S.C. 1532); however, under section 10(a)(1)(B) of the ESA, we may issue permits to authorize incidental take of listed species. “Incidental take” is defined by the ESA as take that is incidental to, and not the purpose of, carrying out of an otherwise lawful activity. Regulations governing incidental take permits for threatened and endangered species are in the Code of Federal Regulations (CFR) at 50 CFR 17.32 and 17.22, respectively. Under the ESA, protections for federally listed plants differ from the protections afforded to federally listed animals. Issuance of an incidental take permit also must not jeopardize the existence of federally listed fish, wildlife, or plant species. The permittees would receive assurances under our “No Surprises” regulations ((50 CFR 17.22(b)(5) and 17.32(b)(5)) regarding conservation activities for the Morro shoulderband snail.

Applicants' Proposed Activities

The applicants have applied for a permit for incidental take of the Morro shoulderband snail. Take is likely to occur in association with activities necessary to construct a single-family residence. The site contains 2.79 acres of suitable upland habitat for the Morro shoulderband snail, all of which is in critical habitat designated for the species. The HCP includes measures to minimize take of Morro shoulderband snail in the form of injury and mortality. Mitigation for unavoidable take of the species consists of the permanent protection of 1.37 acres of suitable and occupied onsite habitat as a conservation easement to be dedicated to the County of San Luis Obispo.

Our Preliminary Determination

The Service made a preliminary determination that issuance of the incidental take permit is neither a major Federal action that will significantly affect the quality of the human environment within the meaning of section 102(2)(C) of NEPA (42 U.S.C. 4321 et seq.), nor will it individually or cumulatively have more than a negligible effect on the species covered in the HCP. The Service considers the effects of the taking of the Morro shoulderband snail to be minor as the affected area is small (approximately 1.42 acres) and includes the permanent protection of 1.37 acres of suitable, occupied habitat in a conservation easement. Therefore, based on this preliminary determination, the permit qualifies for a categorical exclusion under NEPA.

Public Comments

If you wish to comment on the permit application, draft HCP, and associated documents, you may submit comments by one of the methods in ADDRESSES.

Before including your address, phone number, email address, or other personal identifying information in your comment, you should be aware that your entire comment, including your personal identifying information, may be made publicly available at any time. While you can ask us in your comment to withhold your personal identifying information from public view, we cannot guarantee that we will be able to do so.

Authority

We provide this notice under section 10 of the ESA (16 U.S.C. 1531 et seq.) and NEPA regulations (40 CFR 1506.6).

Dated: November 9, 2018.
Stephen P. Henry,
Field Supervisor, Ventura Fish and Wildlife Office, Ventura, California.

[FR Doc. 2018-25222 Filed 11-19-18; 8:45 am]

BILLING CODE 4333-15-P